POSTAL REGULATORY COMMISSION

[Docket Nos. MC2025-1622 and K2025-1653; Order No. 9134]

Competitive Postal Products

AGENCY: Postal Regulatory Commission.

ACTION: Notice.

SUMMARY: The Commission is recognizing a recent Postal Service filing requesting the addition of a new Business Partner—Non-Published Rates Product (BPNPR-1) to the Competitive product list. This notice informs the public of the filing, invites public comment, and takes other administrative steps.

DATES: Comments are due: September 10, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Postal Service Requests

III. Notice and Comment

IV. Ordering Paragraphs

I. Introduction

On August 29, 2025, the Postal Service filed a request to add a new Fulfillment Non-Published Rates (BPNPR-1) to the Competitive product list pursuant to 39 U.S.C. 3642 and 3633, and 39 CFR 3035.105(a), 3041.320, and 3041.325.¹

¹ Docket Nos. MC2025-1201 and K2025-1201, USPS Request to Establish New Fulfillment Non-Published Rates Product (BPNPR-1) and Notice of Filing Materials Under Seal, August 29, 2025 (Request); see Request at 1 n.1.

II. Postal Service Requests

Background. The Commission adopted rules for streamlined option rulemakings in Docket No. RM2023-5 to “address elements of 39 U.S.C. 3642 review and 39 U.S.C. 3633 pre-implementation review that are broadly applicable to qualifying [negotiated service agreements (NSAs)], and not particular to individual qualifying NSAs.” ² Specifically, such proceedings are used to establish eligibility criteria specifying the ways in which qualifying NSAs will be permitted to vary from existing offerings, to review a proposed financial model for qualifying NSAs that accounts for the financial impact of any such variations, and to establish minimum rates for qualifying NSAs. Order No. 7353 at 4.

² Docket No. RM2023-5, Final Order Amending Rules Regarding Competitive Negotiated Service Agreements, August 9, 2024, at 4 (Order No. 7353).

Non-Published Rates. Requests to add conforming NPR NSA products to the Competitive product list are reviewed in public proceedings, and, if approved, one or more included contracts using the same contract template may be subsequently added to the product without requiring further approval from the Commission. See 39 CFR 3041.320.

The Postal Service describes the Request as one to establish a new set of contracts under the Fulfillment Non-Published Rates product within the Mail Classification Schedule (MCS), to be labeled Business Partner—Non-Published Rates (BPNPR) and approve the associated BPNPR-1 contract template. Request at 1. The Postal Service states the proposed BPNPR group consists of fulfillment contracts with domestic customers and will be based on the existing FFNPR financial model and minimum rates, previously approved by the Commission in Order No. 8787 in Docket No. RM2025-7.³ The Postal Service states that the Request includes a contract template which “reflects an updated and consolidated version of the four FFNPR templates originally presented in Docket Nos. MC2025-1201 and K2025-1201.” Request at 3. The Postal Service also states that the template includes common operative components, specifically, the terms that address the applicability of future surcharges, time-limited price changes, appeals, confidentiality, duration (1-3 years), mutual termination for convenience upon a negotiable notice period, and lack of provided packaging. Id.

³ Id.; Docket No. RM2025-7, et al., Order Authorizing Streamlined Review for Eligible Fulfillment Standardized Distinct Products and Non-Published Rates Products and Adding Non-Published Rates Products to the Competitive Product List, April 11, 2025 (Order No. 8787); see Order Denying Motion for Reconsideration, June 16, 2025 (Order No. 8910).

The Postal Service states that the BPNPR-1 template also contains optional provisions for customers to utilize one of three pricing mechanisms: (1) tiered annual pricing; (2) tiered previous quarter pricing; and (3) tiered rolling quarter pricing. Id. The Postal Service asserts that “selection of one of these optional provisions will not be inconsistent with the standards of 39 U.S.C. 3633, as the pricing mechanisms will not have any effect on the underlying financials of any given BPNPR contract, and all included contracts will remain consistent with the financial model submitted in Docket No. RM2025-7.” Id. at 3-4. The Postal Service further asserts that “none of the pricing mechanisms will introduce any new cost element, establish a new service offering, or impose any specific new requirements on the customer.” Id. at 4.

III. Notice and Comment

The Commission establishes Docket Nos. MC2025-1662 and K2025-1653 for consideration of matters raised by the Request. Interested persons may submit comments. Comments are due no later than September 10, 2025. More information on the proceedings may be accessed via the Commission's website at https://www.prc.gov.

Pursuant to 39 U.S.C. 505, Samuel Robinson is designated as an officer of the Commission (Public Representative) to represent the interests of the general public in these proceedings. The Public Representative does not represent any individual person, entity or particular point of view, and, when Commission attorneys are appointed, no attorney-client relationship is established.

IV. Ordering Paragraphs

It is ordered:

1. The Commission establishes Docket Nos. MC2025-1662 and K2025-1653 for consideration of the matters raised by the USPS Request to Establish New Fulfillment Non-Published Rates (BPNPR-1) and Notice of Filing Materials Under Seal, filed August 29, 2025.

2. Comments by interested persons are due no later than September 10, 2025.

3. Pursuant to 39 U.S.C. 505, the Commission appoints Samuel Robinson to serve as an officer of the Commission (Public Representative) to represent the interests of the general public in these dockets.

4. The Secretary shall arrange for publication of this Order in the Federal Register.

By the Commission.
Erica A. Barker,
Secretary.

[FR Doc. 2025-17097 Filed 9-5-25; 8:45 am]

BILLING CODE 7710-FW-P